DEPARTMENT OF TRANSPORTATION

Surface Transportation Board

[STB Finance Docket No. 35012]

Wisconsin & Southern Railroad Co.—Lease and Operation Exemption—Soo Line Railroad Company d/b/a Canadian Pacific Railway

AGENCY: Surface Transportation Board, DOT.

ACTION: Notice of exemption.

SUMMARY: Under 49 U.S.C. 10502, the Board is granting a petition for exemption from the prior approval requirements of 49 U.S.C. 10902 for Wisconsin & Southern Railroad Co., a Class II rail carrier, to lease and operate 4.8 miles of railroad in Milwaukee, WI, owned by Soo Line Railroad Company d/b/a Canadian Pacific Railway (CPR). The subject trackage, known as the Glendale Line, extends southerly from the north line of Hampton Avenue at CPR milepost 93.2 on the Watertown Subdivision to CPR milepost 88.4, which end point is approximately 500 feet south of the southerly street line of State Street, and includes a portion of CPR's Glendale Yard known as the “B” yard.

DATES: The exemption will be effective on July 27, 2007. Petitions to stay must be filed by July 23, 2007. Petitions to reopen must be filed by August 6, 2007.

ADDRESSES: An original and 10 copies of all pleadings referring to STB Finance Docket No. 35012 must be filed with the Surface Transportation Board, 395 E Street, SW., Washington, DC 20423-0001. In addition, one copy of all pleadings must be served on petitioner's representative: John D. Heffner, PLLC, 1920 N Street, NW., Suite 800, Washington, DC 20007.

FOR FURTHER INFORMATION CONTACT: Julia Farr, (202) 245-0359. [Assistance for the hearing impaired is available through the Federal Information Relay Service (FIRS) at 1-800-877-8339.]

SUPPLEMENTARY INFORMATION: Additional information is contained in the Board's decision. To purchase a copy of the full decision, write to, e-mail, or call: ASAP Document Solutions, 9332 Annapolis Rd., Suite 103, Lanham, MD 20706; e-mail: asapdc@verizon.net; telephone: (202) 306-4004. [Assistance for the hearing impaired is available through FIRS at 1-800-877-8339].

Board decisions and notices are available on our Web site at: http://www.stb.dot.gov.

Decided: July 13, 2007.
By the Board, Chairman Nottingham, Vice Chairman Buttrey, and Commissioner Mulvey.
Vernon A. Williams,
Secretary.

[FR Doc. E7-13999 Filed 7-18-07; 8:45 am]

BILLING CODE 4915-01-P